DEPARTMENT OF THE INTERIOR

Bureau of Reclamation

San Carlos Irrigation Project, Arizona

AGENCY: Bureau of Reclamation, Interior.

ACTION: Notice of intent to prepare an Environmental Impact Statement (EIS) and notice of public scoping meeting.

SUMMARY: The Department of the Interior, Bureau of Reclamation, announces its intent to prepare an EIS pursuant to the National Environmental Policy Act of 1969, as amended, on the rehabilitation of San Carlos Irrigation Project (SCIP) water delivery facilities near the communities of Casa Grande, Coolidge, and Florence in Pinal County, Arizona. SCIP canals convey irrigation water from the Gila River and Central Arizona Project (CAP) to agricultural lands in the San Carlos Irrigation and Drainage District (SCIDD) and Gila River Indian Community.

The EIS will evaluate alternatives for rehabilitation of existing facilities and construction of new facilities to meet the objectives of the Gila River Indian Community Water Rights Settlement Agreement, as amended, pursuant to Title II of the Arizona Water Settlements Act of 2004 (Pub. L. 108-451).

DATES: Written comments on the scope of the EIS will be accepted until October 18, 2010.

A scoping meeting will be held to solicit public input on the scope of the environmental document, alternatives, concerns, and issues to be addressed in the EIS. The scoping meeting will be a 4-hour open house. The meeting will be held on Saturday, September 18, 2010, 10 a.m.-2 p.m., Coolidge, Arizona.

ADDRESSES: The public scoping meeting will be held at the Coolidge Police Department, City Council Chambers, 911 South Arizona Boulevard, Coolidge, Arizona.

Send written comments on the scope of the EIS to Mr. John McGlothlen, Bureau of Reclamation, 6150 West Thunderbird Road, Glendale, Arizona 85306; or e-mail at jmcglothlen@usbr.gov.

Those not desiring to submit comments or suggestions at this time, but who would like to receive a copy of the Scoping Notice and/or EIS, should write to the address given above. Scoping information will also be available on Reclamation's Phoenix Area Office Web site at http://www.usbr.gov/lc/phoenix.

FOR FURTHER INFORMATION CONTACT: Mr. John McGlothlen at 623-773-6256, or e-mail at jmcglothlen@usbr.gov.

SUPPLEMENTARY INFORMATION:

Background

The purpose of the proposed action is to conserve water, reduce maintenance requirements and associated costs, and improve service to SCIDD and Gila River Indian Community lands. The SCIP system has more than 95 miles of main canals that are unlined, and water losses from infiltration and evapotranspiration are significant. The long length and large cross section of the canal system relative to the service area, combined with the system's age, make operating and maintaining the facilities challenging. Rehabilitation and modernization of canals will conserve water and reduce maintenance requirements by shortening the length of the conveyance system needed to serve SCIDD and Gila River Indian Community lands. In addition, provisions for increased storage and modernized measurement and control will improve service to customers while providing additional avenues for water conservation.

The proposed action includes the reconstruction and lining of major canals, such as the Florence-Casa Grande, Casa Grande, and North Side canals, and construction of new check structures and cross-drainage features. The existing Florence Canal and Florence-Casa Grande Canal Extension would be converted to drainage and recharge channels to protect rehabilitated canals and associated project lands. These conversions would reduce the size of the main water delivery system and reduce maintenance requirements. A new canal would be constructed to connect the rehabilitated Florence-Casa Grande Canal with the rehabilitated Casa Grande Canal. The project would also include relocating laterals or placing short reaches of laterals in pipeline to accommodate changes in land use within the SCIDD service area.

Alternatives currently under consideration include:

• Construction and repair of wells adjacent to the North Side Canal to allow delivery of a combination of groundwater and Gila River water to the SCIDD service area.

• Construction and repair of wells adjacent to the North Side Canal to allow delivery of only groundwater to the SCIDD service area.

• Implementation of an exchange agreement between SCIDD and the Central Arizona Water Conservation District to allow delivery of CAP water to rehabilitated North Side Canal facilities through proposed interties with the CAP Aqueduct. The exchange agreement would also allow flexibility during rehabilitation of the Florence-Casa Grande Canal and facilitate long-term operational reliability of the SCIP system.

• Construction of mid-system and lower-system reservoirs to store irrigation water. Sites presently under consideration may also afford suitable conditions for hydropower generation.

A portion of the water that is conserved from lining SCIP canals would be made available to the Secretary of the Interior for exchange with water stored in the San Carlos Reservoir to maintain a permanent minimum pool in the reservoir for fish and wildlife. Water that is exchanged for this purpose would be retained in the San Carlos Reservoir and not released to the Gila River.

Indian trust assets associated with the proposed action consist of Gila River water conveyed through SCIP facilities to the Gila River Indian Community and conserved water that is retained in the San Carlos Reservoir to maintain a minimum pool.

Special Assistance for Public Scoping Meeting

If special assistance is required at the scoping meeting, please contact Ms. Jessie Haragara at 623-773-6251, or e-mail at jharagara@usbr.gov. Please notify Ms. Haragara at least 2 weeks in advance of the meeting to enable Reclamation to secure the needed services. If a request cannot be honored, the requestor will be notified.

Public Disclosure

Before including your name, address, phone number, e-mail address, or other personal identifying information in your comment, you should be aware that your entire comment—including your personal identifying information—may be made publicly available at any time. While you can ask us in your comment to withhold your personal indentifying information from public review, we cannot guarantee that we will be able to do so.

Dated: August 25, 2010.
Lorri Gray-Lee,
Regional Director, Lower Colorado Region.

[FR Doc. 2010-21642 Filed 8-30-10; 8:45 am]

BILLING CODE 4310-MN-P